FEDERAL COMMUNICATIONS COMMISSION

Notice of Public Information Collection(s) Being Submitted for Review and Approval to the Office of Management and Budget (OMB), Comments Requested

April 14, 2011.

SUMMARY: As part of its continuing effort to reduce paperwork burden and as required by the Paperwork Reduction Act (PRA) of 1995 (44 U.S.C. 3501-3520), the Federal Communications Commission invites the general public and other Federal agencies to comment on the following information collection. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before May 23, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or the Internet at Nicholas_A._Fraser@omb.eop.gov; and to the Federal Communications Commission's PRA mailbox (e-mail address: PRA@fcc.gov.). Include in the e-mail the OMB control number of the collection as shown in the SUPPLEMENTARY INFORMATION section below, or if there is no OMB control number, include the Title as shown in the SUPPLEMENTARY INFORMATION section. If you are unable to submit your comments by e-mail, contact he person listed below to make alternate arrangements.

FOR FURTHER INFORMATION CONTACT: Benish Shah, Office of Managing Director, (202) 418-7866.

SUPPLEMENTARY INFORMATION: OMB Control Number: 3060-0767.

Title: Sections 1.2110, 1.2111, and 1.2112, Auction and Licensing Disclosures—Ownership and Small Business Status.

Form No.: N/A.

Type of Review: Revision of a currently approved collection.

Respondents: Business or other for-profit, not-for-profit institutions and state, local or tribal government.

Number of Respondents: 300 respondents; 300 responses.

Estimated Time per Response: .50 hours-2 hours.

Frequency of Response: On occasion reporting requirement, third party disclosure requirements, and recordkeeping requirement.

Obligation to Respond: Required to obtain or retain benefits. Statutory authority for this information collection is contained in 47 U.S.C. sections 154(i) and 309(j).

Total Annual Burden: 450 hours.

Total Annual Cost: $20,000.

Privacy Act Impact Assessment: N/A.

Nature and Extent of Confidentiality: There is no need for confidentiality. However, if applicants want to seek confidential treatment of their information, they may do so under 47 CFR 0.459 of the Commission's rules.

Needs and Uses: The Commission will submit this expiring information collection (IC) to the OMB during this comment period. The Commission is seeking OMB approval for revision of this information collection. However, OMB has approved separately the routine collections of information pursuant to these Commission rules in applications to participate in Commission auctions, FCC Form 175, OMB Control No. 3060-0600, and in Commission licensing applications, FCC Form 601, OMB Control No. 3060-0798. On occasion, the Commission may collection information pursuant to these rules to clarify information provided in these forms or in circumstances to which the standard forms may not directly apply. Accordingly, the Commission requests a revision of the approval of OMB Control No. 3060-0767 because some of the Paperwork Reduction Act requirements have been incorporated into OMB Control Nos.

Federal Communications Commission.
Marlene H. Dortch,
Secretary, Office of the Secretary, Office of Managing Director.

[FR Doc. 2011-9767 Filed 4-21-11; 8:45 am]

BILLING CODE 6712-01-P